ENVIRONMENTAL PROTECTION AGENCY

[FRL-6951-7]

Clean Air Act Operating Permit Program; Petition for Objection to Proposed State Operating Permit for Borden Chemical, Inc. Formaldehyde Plant Geismar, Ascension Parish, Louisiana

AGENCY: Environmental Protection Agency (EPA).

ACTION: Notice of final order on petition to object to State operating permit.

SUMMARY: This notice announces that the EPA Administrator has dismissed portions of a petition as moot and denied the remainder of a petition to object to a State operating permit issued by the Louisiana Department of Environmental Quality for Borden Chemical, Inc.'s formaldehyde plant in Geismar, Louisiana. Pursuant to Section 505(b)(2) of the Clean Air Act (Act), the Petitioner may seek judicial review in the United States Court of Appeals for the appropriate circuit within 60 days of this decision under Section 307 of the Act.

ADDRESSES: You may review copies of the final order, the petition, and other supporting information at EPA, Region 6, 1445 Ross Avenue, Dallas, Texas 75202-2733. If you wish to examine these documents, you should make an appointment at least 24 hours before visiting day. The final order is also available electronically at the following address: http://www.epa.gov/ region07/programs/artd/air/title5/petitiondb/borden_response1999.pdf.

FOR FURTHER INFORMATION CONTACT: Jole Luehrs, Chief, Air Permits Section, Multimedia Planning and Permitting Division, U.S. EPA, Region 6, 1445 Ross Avenue, Dallas, Texas 75202-2733, telephone (214) 665-7250, or e-mail at luehrs.jole@epa.gov.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

Ms. Marylee Orr, Executive Director of the Louisiana Environmental Action Network (Petitioner) submitted a petition to the Administrator on August 24, 1999, seeking EPA's objection to the Title V operating permit to be issued for Borden Chemical. Inc.'s formaldehyde plant in Geismar, Louisiana. The petition objects to issuance of the permit on nine grounds:

(1) Violation of public notice and comment provisions; (2) emission reduction credits proposed to offset its emissions are not valid; (3) the facility will hinder reasonable further progress in achieving the ozone standard for the Baton Rouge non-attainment area; (4) environmental impacts of facility significantly outweigh the social and economic benefits of the facility; (5) Borden failed to submit a complete application; (6) Borden's environmental assessment of the site was inadequate; (7) no risk management plan on file; (8) failure to meet Maximum Achievable Control Technology standards; and (9) title VI civil rights complaint. The Order expresses the Administrator's agreement with Petitioner on issues 2 and 3, regarding the validity of emission reduction credits used as offsets, and re-emphasizes the Clean Air Act requirement that credits must be “surplus” of Federal or State requirements at the time they are generated as well as when they are used. However, the Order does not grant relief on those points because the permit was recently modified to no longer rely on such offsets, thereby mooting the issue.

On December 22, 2000, the Administrator issued an order dismissing items 2 and 3 of the petition as moot and denying the remainder of the petition. The order explains the reasons for the Administrator's decision.

Dated: January 23, 2001.
Gregg A. Cooke,
Regional Administrator, Region 6.

[FR Doc. 01-6183 Filed 3-12-01; 8:45 am]

BILLING CODE 6560-50-P